DEPARTMENT OF THE INTERIOR

National Park Service

[NPS-WASO-VRP-OPH-NPS0035461; PPWOVPADH0, PPMPRHS1Y.Y00000 (222); OMB Control Number 1024-0286]

Agency Information Collection Activities; Submission to the Office of Management and Budget for Review and Approval; Office of Public Health, Disease Reporting and Surveillance Forms

AGENCY: National Park Service, Interior.

ACTION: Notice of information collection; request for comment.

SUMMARY: In accordance with the Paperwork Reduction Act of 1995, we, the National Park Service (NPS) are proposing to revise an information collection.

DATES: Interested persons are invited to submit comments on or before June 15, 2023.

ADDRESSES: Written comments and suggestions on the information collection requirements should be submitted by the date specified above in DATES to http://www.reginfo.gov/public/do/PRAMain. Find this particular information collection by selecting “Currently under Review—Open for Public Comments” or by using the search function. Please provide a copy of your comments to theNPS Information Collection Clearance Officer (ADIR-ICCO), 12201 Sunrise Valley Drive, (MS -242) Reston, VA 20191 (mail); or phadrea_ponds@nps.gov (email). Please reference the Office of Management and Budget (OMB) Control Number “1024-0286” in the subject line of your comments.

FOR FURTHER INFORMATION CONTACT: To request additional information about this ICR, contact Dr. Maria Said, Branch Chief, U.S. Public Health Service Epidemiology, Office of Public Health, National Park Service, Washington, DC 20240 (mail); maria_said@nps.gov (email) or (202) 513-7151 (telephone). Please reference OMB Control Number 1024-0286 in the subject line of your comments. Individuals in the United States who are deaf, deafblind, hard of hearing, or have a speech disability may dial 711 (TTY, TDD, or TeleBraille) to access telecommunications relay services. Individuals outside the United States should use the relay services offered within their country to make international calls to the point of contact in the United States. You may also view the ICR at http://www.reginfo.gov/public/do/PRAMain.

SUPPLEMENTARY INFORMATION: In accordance with the Paperwork Reduction Act of 1995 (PRA, 44 U.S.C. 3501 et seq.) and 5 CFR 1320.8(d)(1), we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on September 12, 2022 (87 FR 55845). No comments were received.

As part of our continuing effort to reduce paperwork and respondent burdens, we are again soliciting comments from the public and other Federal agencies on the proposed ICR that is described below. We are especially interested in public comment addressing the following:

(1) Whether or not the collection of information is necessary for the proper performance of the functions of the agency, including whether or not the information will have practical utility.

(2) The accuracy of our estimate of the burden for this collection of information, including the validity of the methodology and assumptions used.

(3) Ways to enhance the quality, utility, and clarity of the information to be collected.

(4) How might the agency minimize the burden of the collection of information on those who are to respond, including through the use of appropriate automated, electronic, mechanical, or other technological collection techniques or other forms of information technology, e.g., permitting electronic submission of response.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: The NPS Organic Act of 1916, 54 U.S.C. 100101 et seq., and the Public Health Service Act, 42 U.S. Code chapter 6A, gives the NPS broad authority to collect information to protect and promote visitor health across the National Parks. Each year, the NPS Office of Public Health (OPH) responds to multiple service-wide incidents involving human disease transmission within the park system. Many of these incidents involve the spread of common and highly contagious viruses spread through contaminated food, water, person-to-person, or contaminated surfaces. In the event of illness incidents, public health responders also consider and investigate the possibility of other etiological agents. The Disease Reporting and Surveillance System (DRSS) provides information on the symptoms, duration, and location of illness, which allows public health workers to work rapidly and appropriately to address the incidents.

NPS Forms 10-685 Concession Employee Illness Report and 10-686 Tour Vehicle Passenger Illness Report are used for monitoring health trends in NPS units, detecting potential clusters or outbreaks, and informing and implementing disease response and control activities. We are seeking to make the following revisions to update the forms.

(1) adding two questions at the beginning of both forms to obtain the name and email address of the person completing the form

(2) a question (on Form 10-685) about whether the sick employee received a diagnosis, and

(3) adding the Office of Public Health's contact information,

This data provides parks, OPH staff, managers of park concessioners, and park clinic concessioners with an early warning system for potential outbreaks to inform public health interventions.

Title of Collection: Office of Public Health, Disease Reporting and Surveillance Forms.

OMB Control Number: 1024-0286.

Form Number: NPS Forms 10-685 and 10-686.

Type of Review: Extension of a currently approved collection.

Respondents/Affected Public: Individuals/households and private sector.

Total Estimated Number of Annual Responses: 590.

Estimated Completion Time per Response: Concession Employee Illness: 10 minutes; Tour Vehicle Passenger Illness: 15 minutes.

Total Estimated Number of Annual Burden Hours: 73.

Respondent's Obligation: Voluntary.

Frequency of Collection: On occasion.

Total Estimated Annual Nonhour Burden Cost: None.

An agency may not conduct, or sponsor and a person is not required to respond to a collection of information unless it displays a currently valid OMB control number. The authority for this action is the Paperwork Reduction Act of 1995 (44 U.S.C. 3501 et seq.).

Phadrea Ponds,
Information Collection Clearance Officer, National Park Service.

[FR Doc. 2023-10399 Filed 5-15-23; 8:45 am]

BILLING CODE 4312-52-P